DEPARTMENT OF LABOR

Occupational Safety and Health Administration

[Docket No. GE2003-2]

Request for Comments on Ergonomics for the Prevention of Musculoskeletal Disorders: Guidelines for Poultry Processing

AGENCY: Occupational Safety and Health Administration (OSHA), Department of Labor.

ACTION: Request for comments.

SUMMARY: The Department of Labor is inviting comments on its draft Ergonomics for the Prevention of Musculoskeletal Disorders: Guidelines for Poultry Processing (draft guidelines). The draft guidelines are available on OSHA's Web page and through its publications office. Interested persons may submit written or electronic comments on the draft guidelines. The Agency will also hold a stakeholder meeting where the public is invited to express its views on the draft guidelines.

DATES: Written Comments: Comments must be submitted by the following dates.

Hard Copy: You must submit your comments (postmarked or sent) by August 4, 2003.

Facsimile and electronic transmission: You must submit comments by August 4, 2003.

(Please see the SUPPLEMENTARY INFORMATION below for additional information on submitting comments.)

Stakeholder meeting: OSHA will hold a one-day stakeholder meeting in the Washington, DC metropolitan area to discuss the draft guidelines. OSHA will announce the exact location and date of the stakeholder meeting prior to the close of the comment period. OSHA requests that interested parties submit their intention to participate in the stakeholder meeting through express delivery, hand delivery, messenger service, fax or electronic means by August 4, 2003.

ADDRESSES:

I. Submission of Comments and Intention To Participate in Stakeholder Meeting

Regular mail, express delivery, hand-delivery, and messenger service: You must submit three copies of your comments and attachments to the OSHA Docket Office, Docket No. GE2003-2, Room N-2625, U.S. Department of Labor, 200 Constitution Avenue, NW., Washington, DC 20210, telephone (202) 693-2350 (OSHA's TTY number is (877) 889-5627). The OSHA Docket Office and the Department of Labor hours of operation are 8:15 a.m. to 4:45 p.m., EST. You must submit one copy of your intention to participate in the stakeholder meeting by regular mail, express delivery, hand delivery, or messenger service to the above address.

Facsimile: If your comments, including any attachments, are 10 pages or fewer, you may fax them to the OSHA Docket Office at (202) 693-1648. You must include the docket number of this document, Docket No. GE2003-2, in your comments. You may also fax your intention to participate in the stakeholder meeting.

Electronic: You may submit comments and your intention to participate in the stakeholder meeting through the Internet at http://ecomments.osha.gov. (Please see the SUPPLEMENTARY INFORMATION below for additional information on submitting comments.)

II. Obtaining Copies of the Draft Guidelines

You can download the draft guidelines for the poultry processing industry from OSHA's Web site at http://www.osha.gov A printed copy of the draft guidelines is available from the OSHA Office of Publications, Room N-3101, U.S. Department of Labor, 200 Constitution Avenue, NW., Washington, DC 20210, or by telephone at (800) 321-OSHA (6742). You may fax your request for a copy of the draft guidelines to (202) 693-2498.

FOR FURTHER INFORMATION CONTACT: Steven F. Witt, OSHA Directorate of Standards and Guidance, Room N-3718, U.S. Department of Labor, 200 Constitution Avenue, NW., Washington, DC 20210, telephone (202) 693-1950.

SUPPLEMENTARY INFORMATION:

I. Submission of Comments and Internet Access to Comments

You may submit comments in response to this document by (1) hard copy, (2) fax transmission (facsimile), or (3) electronically through the OSHA Web site. If you have additional materials, you must submit three copies of them to the OSHA Docket Office at the address above. The additional materials must clearly identify your electronic comments by name, date, subject and docket number so we can attach them to your comments. Because of security-related problems there may be a significant delay in the receipt of comments and intentions to participate in the stakeholder meeting by regular mail. Please contact the OSHA Docket Office at (202) 693-2350 (TTY (877) 889-5627) for information about security procedures concerning the delivery of materials by express delivery, hand delivery, and messenger service.

All comments and submissions will be available for inspection and copying at the OSHA Docket Office at the above address. Comments and submissions will be posted on OSHA's Web site at http://www.osha.gov. OSHA cautions you about submitting personal information such as social security numbers, date of birth, etc. Contact the OSHA Docket Office at (202) 693-2350 (TTY (877) 889-5627) for information about materials not available through the OSHA Web site and for assistance in using the web site to locate docket submissions.

OSHA is providing the public with 60 days to provide comments on the poultry processing ergonomics guidelines. During the development of the nursing home ergonomics guidelines (the final version was published March 13, 2003), the Agency provided 30 days for comment, then extended the comment period an additional 30 days at the request of several stakeholders. The 60-day period provided adequate time for the public to provide comments on the nursing home guidelines, so OSHA is also allowing 60 days for the public to comment on the poultry processing ergonomics guidelines.

II. Background

On April 5, 2002, the Department of Labor announced a four-pronged comprehensive approach for addressing musculoskeletal disorders (MSDs), which calls for OSHA to develop industry and task-specific guidelines. OSHA's third industry-specific guidelines address ergonomic concerns in poultry processing facilities. The draft poultry are compatible with OSHA's 1990 Ergonomic Program Management Guidelines for Meatpacking Plants. The two documents are similar in several key respects, recommending an ergonomics process that relies on management support, employee involvement, training, problem identification, solutions, addressing reports of injuries, and evaluating ergonomics efforts. However, the documents are also different in some respects, reflecting the advances in understanding that have occurred during the 13 years that have passed since the publication of the meatpacking guidelines. The poultry guidelines are based on the meatpacking guidelines, but have been shortened and formatted to resemble OSHA's more recent ergonomics guidelines for nursing homes and the retail grocery industries. The other major differences are that the poultry guidelines:

• Use terms “musculoskeletal disorder” and “MSD” instead of “cumulative trauma disorder” and “CTD”,

• Include many more examples of practical ergonomic solutions tailored to the poultry industry, and

• Are less detailed and more flexible about how to address reports of injuries and provide medical management.

OSHA invites comment on the similarities and differences between the two guidelines, particularly whether the draft guidelines affect the ergonomics efforts that poultry processors have developed using the meatpacking guidelines.

The draft guidelines contain an introduction and two main sections. The introduction provides an overview of MSDs in poultry processing and explains the role of ergonomics in reducing the incidence of these injuries. A section entitled “Ergonomics Process” describes a process for developing and implementing a strategy for analyzing the workplace, implementing ergonomic solutions, training, addressing reports of injuries, and evaluating progress.

The heart of the guidelines, the Implementing Solutions section, describes examples of ergonomic solutions (engineering solutions, work practices, and personal protective equipment) that may be used in poultry processing to control exposure to ergonomic risk factors commonly encountered in the industry. The recommendations cover workstation design, tools, manual material handling, and fitting/selection of personal protective equipment. The draft guidelines finish with a list of references and sources of additional information poultry processing facilities can use to help them with their ergonomics efforts.

OSHA encourages interested parties to comment on all aspects of the draft guidelines. The Agency is particularly interested in:

• Information about successful ergonomics efforts firms in the poultry processing industry have used to address ergonomic concerns,

• Innovative solutions poultry processing firms have used to effectively solve ergonomic problems, and

• Checklists or flowcharts poultry processing firms use to identify workplace problems, identify risk factors, or evaluate aspects of their ergonomics process. OSHA is particularly interested in short, user-friendly checklists for identifying workplace problems that employers have successfully in their workplaces.

III. Stakeholder Meeting

Following the close of the comment period, OSHA will hold a stakeholder meeting in the Washington, DC metropolitan area during the week of August 18. The Agency will announce the exact date and location of the stakeholder meeting at a later date.

This notice was prepared under the direction of John L. Henshaw, Assistant Secretary for Occupational Safety and Health. It is issued under sections 4 and 8 of the Occupational Safety and Health Act of 1970 (29 U.S.C. 653, 657).

Issued at Washington, DC, this 30th day of May, 2003.
John L. Henshaw,
Assistant Secretary of Labor.

[FR Doc. 03-14080 Filed 6-3-03; 8:45 am]

BILLING CODE 4510-26-M